SMALL BUSINESS ADMINISTRATION

Public Federal Regulatory Enforcement Fairness Hearing; Region IV Regulatory Fairness Board

The U.S. Small Business Administration (SBA) Region IV Regulatory Fairness Board and the SBA Office of the National Ombudsman will hold a public hearing on Thursday, February 22, 2007, at 10 a.m. The meeting will take place at the Auburn Avenue Research Library, 101 Auburn Avenue, NE., Atlanta, GA 30303. The purpose of the meeting is to receive comments and testimony from small business owners, small government entities, and small non-profit organizations concerning regulatory enforcement and compliance actions taken by Federal agencies.

Anyone wishing to attend or to make a presentation must contact James Hightower, in writing or by fax, in order to be placed on the agenda. James Hightower, Public Information Officer, SBA, Georgia District Office, 233 Peachtree Street, NE., Suite 1900, Atlanta, GA 30303, phone (404) 331-0100, Ext. 215 and fax (202) 481-2313, e-mail: James.hightower@sba.gov.

For more information, see our Web site at http://www.sba.gov/ombudsman.

Matthew Teague,
Committee Management Officer.

[FR Doc. E7-2228 Filed 2-9-07; 8:45 am]

BILLING CODE 8025-01-P